ENVIRONMENTAL PROTECTION AGENCY

[EPA-HQ-OPP-2009-0608; FRL-8844-4]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: Mike Mendelsohn, Biopesticides and Pollution Prevention Division (7511P), Office of Pesticide Programs, Environmental Protection Agency, 1200 Pennsylvania Ave., NW., Washington, DC 20460-0001; telephone number: (703) 308-8715; e-mail address: mendelsohn.mike@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

EPA has established a docket for this action under docket identification (ID) number EPA-HQ-OPP-2009-0608. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. EUP

EPA has issued the following EUP:

67979-EUP-8. Issuance. Syngenta Seeds, Inc. - Field Crops, P.O. Box 12257, Research Triangle Park, NC 27709. This EUP allows the use of the plant incorporated protectant (PIP) [Event 5307] Bacillus thuringiensis eCry3.1Ab protein and the genetic material necessary for its production (vector pSYN12274) in event 5307 corn (SYN-Ø53Ø7-1) and other associated PIPs containing: 1) [Bt11] Bacillus thuringiensis Cry1Ab delta-endotoxin and the genetic material (as contained in plasmid vector pZO1502) necessary for its production in corn, 2) [DAS-59122-7] Bacillus thuringiensis Cry34Ab1 and Cry35Ab1 proteins and the genetic material (vector PHP 17662) necessary for their production in Event DAS-59122-7 corn, 3) [MIR162] Bacillus thuringiensis Vip3Aa20 and the genetic material necessary for its production (vector pNOV1300) in event MIR162 maize (SYN-IR162-4), 4) [MIR604] Modified Cry3A protein and the genetic material necessary for its production (via elements of pZM26) in corn (SYN IR604-8), and 5) [TC1507] Bacillus thuringiensis Cry1F protein and the genetic material (vector PHP8999) necessary for its production in Event TC1507 corn. There are 10.213 kilograms (kg) of eCry3.1Ab, 11.14 grams of Cry1Ab, 8,145 grams of Cry34Ab1, 112.1 grams of Cry35Ab1, 280.6 grams of Vip3Aa20, 217.9 grams of mCry3A, and 177.5 grams of Cry1F proteins in 69,473 kg seeds on 7,311 acres (3,830 PIP and 3,481 non-PIP) in 2010 and 7,308 acres (4,240 PIP and 3.068 non-PIP) in 2011 of corn for efficacy evaluation and regulatory studies trial. The program is authorized only in the States of Arkansas, California, Colorado, Florida, Georgia, Hawaii, Idaho, Illinois, Indiana, Iowa, Kansas, Kentucky, Louisiana, Maryland, Michigan, Minnesota, Mississippi, Missouri, Nebraska, New York, North Carolina, Ohio, Oklahoma, Puerto Rico, South Carolina, South Dakota, Texas, Washington, and Wisconsin. The EUP is effective from June 1, 2010 to February 28, 2012.

Three comments were received in the docket from individuals who submitted anonymous comments objecting in general terms to EPA's granting of pesticide EUPs, as well as to this EUP in particular. EPA understands that some individual are opposed to pesticide use. Pursuant to section 5 of the Federal Insecticide, Fungicide, and Rodenticide Act (FIFRA), EPA may issue a permit for experimental use of a pesticide if the Agency determines that such experimental use may be conducted in such a manner as to not result in unreasonable adverse effects on the environment. EPA has conducted a comprehensive analysis of data and information related to the requested experimental uses and, based on that analysis, EPA has determined that the experimental uses, if conducted in accordance with the terms of the permit, will not result in unreasonable adverse effects on the environment.

Authority: 7 U.S.C. 136c.

List of Subjects

Environmental protection, Experimental use permits.

Dated: September 15, 2010.
W. Michael McDavit,
Acting Director, Biopesticides and Pollution Prevention Division, Office of Pesticide Programs.

[FR Doc. 2010-23720 Filed 9-21-10; 8:45 am]

BILLING CODE 6560-50-S